DEPARTMENT OF HEALTH AND HUMAN SERVICES

Centers for Disease Control and Prevention

[60Day-06-06BO]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Survey of Surgeons on Occupational Exposure to Blood and Body Fluids—New—National Center for Infectious Diseases (NCID), Division of Healthcare Quality Promotion (DHQP), Centers for Disease Control and Prevention (CDC).

Background and Brief Description

The Division of Healthcare Quality Promotion (DHQP), CDC, defines as its primary mission the protection of patients and healthcare personnel through the promotion of safety, quality, and value in the healthcare delivery system. One priority is preventing transmission of blood borne pathogens to healthcare personnel during delivery of medical care. The purpose of this project is to conduct a survey of surgeons regarding the occurrence, reporting, and management of occupational exposures to blood and body fluid in the operating room (OR) setting. Respondents will also be asked about safety perceptions and practices during surgery.

The survey is intended to assess the knowledge, attitudes, and behaviors of surgeons regarding sharps injuries and blood exposures in the operating room setting, post exposure management and treatment of blood and body fluid exposures, and safety culture and practices. Data from the National Surveillance System for Health Care Workers (NaSH) indicate that surgeons are at high risk for sharps injuries and/or blood and body fluid exposures. However, they have the lowest rates of exposure reporting. The results of the proposed survey will be used to determine the nature and frequency of blood exposures in the operating room setting and to make recommendations about mechanisms for improving safety culture and practices in this setting.

The questionnaire will be sent to a 5% sample of the 99,042 U.S. surgeons in the American Medical Association's physician masterfile. The survey sample will be stratified by sub-specialty and geographic region. Assuming a 20% response rate, the total number of respondents would be 990. The survey will take a maximum of 10 minutes to complete. Therefore, the maximum total burden hours may reach 165. There is no cost to the respondents other than their time.

Estimated Annualized Burden Hours
Respondent | Number of respondents | Number of responses per respondent | Average burden per response (in hours) | Total burden (hours)
Surgeons | 990 | 1 | 10/60 | 165

Dated: September 7, 2006.
Joan F. Karr,
Acting Reports Clearance Officer, Centers for Disease Control and Prevention.

[FR Doc. E6-15235 Filed 9-13-06; 8:45 am]

BILLING CODE 4163-18-P